DEPARTMENT OF TRANSPORTATION

Federal Highway Administration

Environmental Impact Statement: Multiple Counties, Alabama

AGENCY: Federal Highway Administration (FHWA), DOT.

ACTION: Notice of intent.

SUMMARY: The FHWA is issuing this notice to advise the public that an Environmental Impact Statement will be prepared for a proposed highway project that will traverse the west central section of the State of Alabama.

FOR FURTHER INFORMATION CONTACT: Mr. Joe D. Wilkerson, Division Administrator, Federal Highway Administration, 500 Eastern Boulevard, Suite 200, Montgomery, Alabama 36117-2018, Telephone (334) 223-7370.

SUPPLEMENTARY INFORMATION: The FHWA, in cooperation with the State of Alabama Department of Transportation, will prepare an Environmental Impact Statement (EIS) for Project NCPD-PE02(910). The proposed action is to construct a multi-lane, limited-access roadway to provide a connecting link in the freeway/Interstate system between I-59/I-20 near the Mississippi State line and I-85 in Montgomery, Alabama. The highway will have an approximate length of 140 miles. The study area includes large parts of six Black Belt Counties (Dallas, Hale, Lowndes, Marengo, Perry, and Sumter), as well as Autauga and Montgomery Counties. A new Interstate connector will improve system linkage, provide a safe and efficient transportation corridor, and enhance economic opportunities for the Black Belt and other areas in the region.

Alternatives under consideration include: (1) alternate route locations and (2) a no-action or no-build alternative.

The Alabama Department of Transportation and the Alabama Division Office of the Federal Highway Administration have begun a corridor study. Letters describing the proposed action and soliciting comments were sent to appropriate Federal, State, and local agencies and to private organizations and citizens who previously expressed or were known to have interest in this proposal.

In addition to the early coordination already accomplished, additional meetings will be held as appropriate, and formal public hearings will be held. Public notice will be given of the time and place for the meetings and hearings. The Draft Environmental Impact Statement will be available for public and agency review and comment prior to the public hearings.

To ensure that the full range of issues related to this proposed action are addressed and all significant issues are identified, comments and suggestions are invited from all interested parties. An interagency scoping meeting was scheduled for September 22, 2005, in Selma, Alabama. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: September 8, 2005.
Joe D. Wilkerson,
Division Administrator, Montgomery.

[FR Doc. 05-18627 Filed 9-19-05; 8:45 am]

BILLING CODE 4910-22-M